FEDERAL COMMUNICATIONS COMMISSION

[DA 17-69]

Freeze on the Filing of Applications for Digital Companion Channels

AGENCY: Federal Communications Commission.

ACTION: Notice.

SUMMARY: In this document, the Media Bureau of the Federal Communications Commission (Commission) announces a freeze on the filing of digital companion channels by low power television and TV translator stations.

DATES: This filing limitation became effective on January 19, 2017.

FOR FURTHER INFORMATION CONTACT: Shaun Maher, Video Division, Media Bureau, Federal Communications Commission, barbara.kreisman@fcc.gov, (202) 418-2324.

SUPPLEMENTARY INFORMATION: This is a summary of the Commission's document, DA 17-69, released January 19, 2017. The complete text of this document is available for download at http://transition.fcc.gov/Daily_Releases/Daily_Business/2017/db0119/DA-17-69A1.pdf.

Effective immediately, the Media Bureau announces a freeze on the filing of applications for digital companion channels for low power television (LPTV) and TV translator stations. The incentive auction is being conducted pursuant to Title VI of the Middle Class Tax Relief and Job Creation Act of 2012. It includes a “reverse auction” and reorganization or “repacking” of the broadcast television bands in order to free up a portion of the ultra-high frequency band for new flexible uses. The facilities of LPTV and TV translator stations are not protected during repacking. “Operating” LPTV and TV translator stations displaced by repacking will be permitted to file displacement applications in a special window to be opened following the completion of the auction. “Operating” stations are defined as those that have licensed their authorized construction permit facilities or have an application for a license to cover on file with the Commission on the release date of the incentive auction Closing and Channel Reassignment Public Notice.

To facilitate the special window for displaced LPTV and TV translator stations and to protect the opportunity for LPTV and TV translator stations displaced by the repacking of the television bands to obtain a new channel in the special window from the limited number of channels likely to be available for application after repacking, the Media Bureau deems it appropriate to freeze the acceptance of digital companion channel applications at this time. Because the Commission has postponed the digital transition deadline for LPTV and TV translator stations until 12 months after the completion of the 39-month post-incentive auction transition period (51 months total), temporary postponement of the filing of applications for digital companion channels should not impact stations' efforts to transition to digital. The Media Bureau will continue to process pending digital companion channel applications. Following completion of the special window for displaced LPTV and TV translator stations, we will announce when we will again begin accepting digital companion channel applications.

The decision to impose this freeze is procedural in nature, and therefore is not subject to the notice and comment and effective date requirements of the Administrative Procedure Act, 5 U.S.C. 553(b)(A), (d). Moreover, we find that there is good cause for not delaying the effect of these procedures until 30 days after publication in the Federal Register. Such a delay would be impractical, unnecessary, and contrary to the public interest because it would undercut the purposes of the freeze.

This action is taken by the Chief, Media Bureau pursuant to authority delegated by 47 CFR 0.283 of the Commission's rules.

Federal Communications Commission.
Barbara Kreisman,
Chief, Video Division, Media Bureau.

[FR Doc. 2017-02355 Filed 2-3-17; 8:45 am]

BILLING CODE 6712-01-P